ENVIRONMENTAL PROTECTION AGENCY

[FRL-7447-1]

Notice of Availability for Draft Guidance on the Technical Support Document (TSD) for Title V Permitting of Printing Facilities

AGENCY: Environmental Protection Agency (EPA).

ACTION: Extension of comment period for notice of availability.

SUMMARY: We are making available for an additional 30 days of public review a draft of our pending guidance on the design of air permits for the printing sector. The public comment period will now be extended until March 6, 2003. This extension is in response to multiple requests for additional time to review the draft TSD.

A draft of this guidance is available for public review for downloading off the internet (see ADDRESSES). As before, we do not intend to respond to individual comments, but rather to consider comments and information from the public in the preparation of a final guidance document.

DATES: The review period for this document will close on March 6, 2003. Any comments on the draft guidance must be submitted to EPA by that date.

ADDRESSES: The draft guidance can be accessed at http://www.epa.gov/ttn/oarpg/. Comments should be sent to Michael Trutna, Information Transfer and Program Integration Division (C304-03), U.S. EPA, Research Triangle Park, NC 27711, (919) 541-5345, fax (919) 541-4028, or trutna.mike@epa.gov.

FOR FURTHER INFORMATION CONTACT: Michael Trutna at the above address or Gary Rust, Information Transfer and Program Integration Division (C304-04), U.S. EPA, Research Triangle Park, NC 27711, (919) 541-0358, fax (919) 541-4028, or rust.gary@epa.gov. For further information on monitoring or testing issues, please contact Barrett Parker at (919) 541-5635 or parker.barrett@epa.gov.

Dated: January 15, 2003.
William Harnett,
Director, Information Transfer and , Program Integration Division.

[FR Doc. 03-2536 Filed 2-3-03; 8:45 am]

BILLING CODE 6560-50-P